DEPARTMENT OF ENERGY

Federal Energy Regulatory Commission

[Docket No. RP99-480-006]

Texas Eastern Transmission, LP; Notice of Compliance Filing

February 20, 2003.

Take notice that on February 14, 2003, Texas Eastern Transmission, LP (Texas Eastern) tendered for filing as part of its FERC Gas Tariff, Seventh Revised Volume No. 1, the revised tariff sheets listed in Appendix A of the filing, to be effective on the date of the Commission's order approving the tariff sheets.

Texas Eastern states that the purpose of this filing is to comply with the Letter Order issued by the Commission in Docket No. RP99-480-003 on January 15, 2003 [102 FERC ¶ 61,028 (2003)].

Texas Eastern further states that it is hereby submitting tariff revisions that comply with such order and, in particular, clarify that the tariff provides for differing levels of maximum daily quantities for Rate Schedule FT-1, as well as Rate Schedules CDS, SCT, LLFT and VKFT in Texas Eastern's FERC Gas Tariff, Seventh Revised Volume No. 1.

Texas Eastern indicates that copies of its filing have been mailed to all affected customers of Texas Eastern and interested state commissions, as well as to all parties listed on the Official Service List compiled by the Secretary of the Commission in Docket No. RP99-480-003.

Any person desiring to protest said filing should file a protest with the Federal Energy Regulatory Commission, 888 First Street, NE., Washington, DC 20426, in accordance with section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: February 26, 2003.

Magalie R. Salas,
Secretary.

[FR Doc. 03-4473 Filed 2-25-03; 8:45 am]

BILLING CODE 6717-01-P